DEPARTMENT OF ENERGY

Federal Energy Regulatory Commission

Combined Notice of Filings #1

Take notice that the Commission received the following electric corporate filings:

Docket Numbers: EC23-26-000.

Applicants: EdSan 1B Group 1 Edwards, LLC, EdSan 1B Group 1 Sanborn, LLC, EdSan 1B Group 2, LLC, EdSan 1B Group 3, LLC, Daylight I, LLC, Edwards Solar Line I, LLC, Sanborn Solar Line I, LLC, Axium ES Holdings LLC.

Description: Joint Application for Authorization Under Section 203 of the Federal Power Act of EdSan 1B Group 1 Edwards, LLC, et al.

Filed Date: 11/10/22.

Accession Number: 20221110-5246.

Comment Date: 5 p.m. ET 12/27/22.

Take notice that the Commission received the following exempt wholesale generator filings:

Docket Numbers: EG23-23-000.

Applicants: AES Kuihelani Solar, LLC.

Description: AES Kuihelani Solar, LLC submits Notice of Self-Certification of Exempt Wholesale Generator Status.

Filed Date: 11/14/22.

Accession Number: 20221114-5069.

Comment Date: 5 p.m. ET 12/5/22.

Take notice that the Commission received the following electric rate filings:

Docket Numbers: ER10-2374-015; ER22-2649-000; ER17-2059-009; EL22-57-000.

Applicants: Puget Sound Energy, Inc., Puget Sound Energy, Inc., Puget Sound Energy, Inc., Puget Sound Energy, Inc.

Description: Refund Report of Puget Sound Energy, Inc. et al.

Filed Date: 11/10/22.

Accession Number: 20221110-5266.

Comment Date: 5 p.m. ET 12/1/22.

Docket Numbers: ER23-273-001.

Applicants: Wisconsin Public Service Corporation.

Description: Tariff Amendment: Amendment to Revisions to the AS Tariff for Reactive Supply Service to be effective 1/1/2023.

Filed Date: 11/14/22.

Accession Number: 20221114-5248.

Comment Date: 5 p.m. ET 12/5/22.

Docket Numbers: ER23-415-000.

Applicants: Idaho Power Company.

Description: Compliance filing: Interconnection Study Metric Report to be effective N/A.

Filed Date: 11/14/22.

Accession Number: 20221114-5004.

Comment Date: 5 p.m. ET 12/5/22.

Docket Numbers: ER23-416-000.

Applicants: PJM Interconnection, L.L.C.

Description: § 205(d) Rate Filing: Original NSA, Service Agreement No. 6703; Queue Nos. AB2-077/AB2-078/AB2-079 to be effective 10/12/2022.

Filed Date: 11/14/22.

Accession Number: 20221114-5006.

Comment Date: 5 p.m. ET 12/5/22.

Docket Numbers: ER23-417-000.

Applicants: Public Service Company of Colorado.

Description: § 205(d) Rate Filing: 2022-11-11 Nereo Amnd LGIA—643-0.0.0 to be effective 11/12/2022.

Filed Date: 11/14/22.

Accession Number: 20221114-5007.

Comment Date: 5 p.m. ET 12/5/22.

Docket Numbers: ER23-418-000.

Applicants: New York Independent System Operator, Inc.

Description: New York Independent System Operator, Inc., requests a one-time prospective waiver of Section 5.13.1, of its Market Administration and Control Area Services Tariff.

Filed Date: 11/10/22.

Accession Number: 20221110-5248.

Comment Date: 5 p.m. ET 11/15/22.

Docket Numbers: ER23-419-000.

Applicants: Midcontinent Independent System Operator, Inc.

Description: § 205(d) Rate Filing: 2022-11-14_SA 3328 Termination of Badger Hollow Solar Farm-ATC E&P (J870 J871) to be effective 11/15/2022.

Filed Date: 11/14/22.

Accession Number: 20221114-5055.

Comment Date: 5 p.m. ET 12/5/22.

Docket Numbers: ER23-420-000.

Applicants: PacifiCorp.

Description: § 205(d) Rate Filing: Montana Intertie Proj Trans Agmt Ex F Concurrence to be effective 10/1/2022.

Filed Date: 11/14/22.

Accession Number: 20221114-5068.

Comment Date: 5 p.m. ET 12/5/22.

Docket Numbers: ER23-421-000.

Applicants: Midcontinent Independent System Operator, Inc.

Description: § 205(d) Rate Filing: 2022-11-14_SA 3471 Entergy Mississippi-Tunica Windpower 1st Rev GIA (J866) to be effective 10/19/2022.

Filed Date: 11/14/22.

Accession Number: 20221114-5090.

Comment Date: 5 p.m. ET 12/5/22.

Docket Numbers: ER23-422-000.

Applicants: American Electric Power Service Corporation, AEP Indiana Michigan Transmission Company, Inc., PJM Interconnection, L.L.C.

Description: § 205(d) Rate Filing: American Electric Power Service Corporation submits tariff filing per 35.13(a)(2)(iii): AEP submits CIAC, SA No. 6679 CIAC with IMTCO and NIPSCO to be effective 10/17/2022.

Filed Date: 11/14/22.

Accession Number: 20221114-5113.

Comment Date: 5 p.m. ET 12/5/22.

Docket Numbers: ER23-423-000.

Applicants: PJM Interconnection, L.L.C.

Description: § 205(d) Rate Filing: Revisions to OA re: termination of Hill Energy Resources & Services, LLC to be effective 1/17/2023.

Filed Date: 11/14/22.

Accession Number: 20221114-5150.

Comment Date: 5 p.m. ET 12/5/22.

Docket Numbers: ER23-424-000.

Applicants: Midcontinent Independent System Operator, Inc., ITC Midwest LLC.

Description: § 205(d) Rate Filing: Midcontinent Independent System Operator, Inc. submits tariff filing per 35.13(a)(2)(iii): 2022-11-14_SA 3929 ITC Midwest-Salt Creek E&P (J1365) to be effective 11/8/2022.

Filed Date: 11/14/22.

Accession Number: 20221114-5173.

Comment Date: 5 p.m. ET 12/5/22.

Docket Numbers: ER23-425-000.

Applicants: PJM Interconnection, L.L.C.

Description: § 205(d) Rate Filing: Amendment to WMPA, Service Agreement No. 6062; Queue No. AG1-253 to be effective 4/6/2021.

Filed Date: 11/14/22.

Accession Number: 20221114-5256.

Comment Date: 5 p.m. ET 12/5/22.

Docket Numbers: ER23-426-000.

Applicants: California Independent System Operator Corporation.

Description: Compliance filing: 2022-11-14 Compliance Filing—NAESB Standards to be effective 12/31/9998.

Filed Date: 11/14/22.

Accession Number: 20221114-5286.

Comment Date: 5 p.m. ET 12/5/22.

Docket Numbers: ER23-427-000.

Applicants: California Independent System Operator Corporation.

Description: Compliance filing: 2022-11-14 Waiver Filing—NAESB Standards to be effective N/A.

Filed Date: 11/14/22.

Accession Number: 20221114-5288.

Comment Date: 5 p.m. ET 12/5/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2022.
Debbie-Anne A. Reese,
Deputy Secretary.

[FR Doc. 2022-25159 Filed 11-17-22; 8:45 am]

BILLING CODE 6717-01-P